NUCLEAR REGULATORY COMMISSION

[Docket No. 50-244]

R.E. Ginna Nuclear Power Plant, LLC; Notice of Withdrawal of Request for Release of Part of Site for Unrestricted Use

The U.S. Nuclear Regulatory Commission (the Commission) has granted the request of R.E. Ginna Nuclear Power Plant, LLC (the licensee) to withdraw its application dated May 20, 2005, for the release of part of the site for unrestricted use at the R.E. Ginna Nuclear Power Plant (Ginna), located in Wayne County, New York.

The proposed request would have involved the release of a tract of land consisting of two adjacent parcels, comprising a total of about 15 acres along the western edge of the Ginna site boundary.

The Commission had previously issued a Notice of Receipt and Availability for Comment of Request Regarding Release of Part of Site for Unrestricted Use published in the Federal Register on July 11, 2005 (70 FR 39802). However, by letter dated March 3, 2006, the licensee withdrew the proposed request.

For further details with respect to this action, see the application dated May 20, 2005 (Agencywide Documents Access and Management System (ADAMS Accession No. ML051530448), and the licensee's letter dated March 3, 2006 (ADAMS No. ML060790446), which withdrew the application. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 31st day of March 2006.
For the Nuclear Regulatory Commission.
Patrick D. Milano,
Senior Project Manager, Plant Licensing Branch I-1, Division of Operating Reactor Licensing, Office of Nuclear Reactor Regulation.

[FR Doc. E6-5023 Filed 4-5-06; 8:45 am]

BILLING CODE 7590-01-P